DEPARTMENT OF ENERGY

Federal Energy Regulatory Commission

[Project No. 2835-026]

New York State Electric and Gas Corporation; Notice of Compliance Filing and Soliciting Comments, Motions To Intervene, and Protests

June 15, 2007.

Take notice that the following report has been filed with the Commission and is available for public inspection:

a. Filing Type: Whitewater Access Plan.

b. Project No: 2835-026.

c. Date Filed: May 23, 2007.

d. Applicant: New York State Electric and Gas Corporation (NYSEG).

e. Name of Project: Rainbow Falls Hydroelectric Project.

f. Location: On the Ausable River, in Clinton County, New York.

g. Filed Pursuant to: Federal Power Act, 16 U.S.C. 791(a)-825(r).

h. Applicant Contact: Mr. Hugh Ives, 89 East Avenue, Rochester, NY 14649. Phone: (585) 724-8209.

i. FERC Contact: Any questions on this notice should be addressed to Gina Krump at (202) 502-6704 or gina.krump@ferc.gov.

j. Deadline for filing comments and /or motions: July 6, 2007.

All documents (original and eight copies) should be filed with: Kimberly D. Bose, Secretary, Federal Energy Regulatory Commission, 888 First Street, NE., Washington, DC 20426. Please include the project number (2835-026) on any comments or motions filed.

k. Description of Proposal: NYSEG filed a Whitewater Access Plan (plan) pursuant to article 414 of the project license. The plan addresses impacts of whitewater access and public usage on the upper Chasm boating on other recreational users of Ausable Chasm and Ausable River downstream. It includes an estimate of potential demand for whitewater boating, costs estimates for providing and maintaining access to the upper Chasm, and a proposal to possibly limit, continue, or discontinue whitewater access at the project. The plan recommends that whitewater access be discontinued at the site due to low usage, and safety and security concerns.

l. Locations of the Application: This filing is available for review and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, please contact FERC Online Support at FERCOnlineSupport@ferc.gov or call toll-free 1-866-208-3676, or for TTY, contact (202) 502-8659. A copy is also available for inspection and reproduction at the address in item (h) above.

m. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

o. Agency Comments: Federal, State, and local agencies are invited to file comments on the described application. A copy of the application may be obtained by agencies directly from the Applicant. If an agency does not file comments within the time specified for filing comments, it will be presumed to have no comments. One copy of an agency's comments must also be sent to the Applicant's representatives.

p. Comments, protests, and interventions may be filed electronically via the internet in lieu of paper. See, 18 CFR 385.2001(a)(1)(iii) and the instructions on the Commission's Web site at http://www.ferc.gov under the “e-Filing” link.

Kimberly D. Bose,
Secretary.

[FR Doc. E7-12189 Filed 6-22-07; 8:45 am]

BILLING CODE 6717-01-P